OFFICE OF THE UNITED STATES TRADE REPRESENTATIVE

[Docket No. USTR-2019-0001]

2019 Generalized System of Preferences (GSP): Notice of Annual GSP Product and Country Review; Deadline for Filing Petitions

AGENCY: Office of the United States Trade Representative.

ACTION: Notice of statistics availability and announcement of annual GSP review.

SUMMARY: The Office of the United States Trade Representative (USTR) will consider petitions to modify the GSP status of GSP beneficiary developing countries (BDCs) because of country practices; add products to GSP eligibility; remove products from GSP eligibility for one or more countries; waive competitive need limitations (CNLs); deny de minimis waivers for products eligible for de minimis waivers; and redesignate currently excluded products. This review will include separate hearings on product petitions and country eligibility reviews, which USTR will announce in the Federal Register at a later date.

DATES: April 18, 2019 at midnight EST: Deadline for petitions to modify the GSP status of certain GSP beneficiary developing countries because of country practices; petitions requesting waivers of CNLs; petitions on GSP product eligibility additions or removals; petitions to deny de minimis waivers; petitions to redesignate an excluded product; and petitions for continuation of CNLs that have exceeded certain thresholds. USTR will not consider petitions submitted after the April 18, 2019 deadline. USTR will announce the petitions accepted for review, along with a schedule for any related public hearings and the opportunity for the public to provide comments, at a later date.

ADDRESSES: USTR strongly prefers electronic submissions made through the Federal eRulemaking Portal: http://www.regulations.gov. Follow the instructions for submitting comments in section III below. The docket number is USTR-2019-0001. For alternatives to on-line submissions, please contact Lauren Gamache at gsp@ustr.eop.gov, or 202-395-2974.

FOR FURTHER INFORMATION CONTACT: Lauren Gamache at gsp@ustr.eop.gov, or 202-395-2974.

SUPPLEMENTARY INFORMATION:

I. 2018 Import Statistics Related to CNLs, De Minimis Waivers, and Product Redesignations

The GSP program provides for the duty-free treatment of designated articles when imported from designated beneficiary developing countries. The GSP program is authorized by Title V of the Trade Act of 1974, as amended (Trade Act) (19 U.S.C. 2461-2467), and is implemented in accordance with Executive Order 11888 of November 24, 1975, as modified by subsequent Executive Orders and Presidential Proclamations.

USTR posted the 2018 import statistics relating to CNLs, de minimis waivers, and product redesignations on the USTR website at https://ustr.gov/sites/default/files/IssueAreas/gsp/2018_Import_Statistics_Relating_to_CNLs_De_Minimis_Waivers_and_Product_Redesignations.pdf These statistics include four lists.

I. List I identifies GSP-eligible articles from BDCs that exceeded a CNL by having been imported into the United States in 2018 in excess of $185 million, or in a quantity equal to or greater than 50 percent of the total U.S. import value for this product in 2018. Unless the President grants a waiver in response to a petition filed by an interested party, these products will be removed from GSP eligibility on November 1, 2019.

II. List II identifies GSP-eligible articles from BDCs that are above the 50 percent CNL but that are eligible for a de minimis waiver since total U.S. imports of the product are less than $24 million. Articles eligible for de minimis waivers automatically are considered in the GSP annual review process without the filing of a petition. As described below, USTR will only accept petitions in opposition to a potential de minimis waiver for a particular product.

III. List III identifies GSP-eligible articles from certain BDCs that currently are not receiving GSP duty-free treatment but may be considered for GSP redesignation based on 2018 trade data and consideration of certain statutory factors. Note that products exceeding the 50 percent CNL may be considered for redesignation if there was no U.S. production of a like or directly competitive product in the last three years.

IV. List IV identifies GSP-eligible articles from BDCs that currently have a CNL waiver but have exceeded 150 percent of the CNL threshold. Unless the President grants a continuation of the waiver in response to a petition filed by an interested party, these products will be removed from GSP eligibility on November 1, 2019.

II. 2019 Annual GSP Review

A. Country Practice Review Petitions

An interested party may submit a petition to review the GSP eligibility of any beneficiary developing country with respect to any of the designation criteria listed in sections 502(b) and 502(c) of the Trade Act (19 U.S.C. 2462(b) and (c)).

B. GSP Product Review Petitions

An interested party may submit the following petitions:

• Product addition petitions: Petitions to designate additional articles as eligible for GSP benefits, including designating articles as eligible only if the articles are imported from countries designated as least-developed beneficiary developing countries, or as beneficiary sub-Saharan African countries under the African Growth and Opportunity Act (AGOA). Petitioners seeking to add products to eligibility for GSP benefits should note that, as provided in section 503(b) of the Trade Act (19 U.S.C. 2463(b)), certain articles may not be designated as eligible articles under GSP.

• Product withdrawal petitions: Petitions to withdraw, suspend, or limit the application of duty-free treatment accorded under GSP with respect to any article.

• Competitive need limitation waiver petitions: Any interested party may submit a petition seeking a waiver of the 2019 CNL for individual beneficiary developing countries with respect to specific GSP-eligible articles (these limits, however, do not apply to least-developed beneficiary developing countries or AGOA beneficiary countries). Interested parties filing CNL waiver petitions should indicate whether there was production of a like or directly competitive product in the United States during the previous three calendar years (that is, 2016 to 2018).

• Petitions for denial of de minimis waivers: USTR automatically will consider all de minimis waivers. Thus, USTR only will accept petitions to deny de minimis waivers. Interested parties may submit comments in support of particular de minimis waivers that USTR will consider in its decision making process.

• Petitions for redesignation: Interested parties may file petitions to grant redesignation of products for which imports are below the dollar value CNL ($185 million for 2018) and that are below 50 percent of total U.S. imports. If a petitioner believes there has been no U.S. production of a like or directly competitive product in the past three years, USTR also will consider petitions to grant redesignation of products for which imports are below the dollar value CNL ($185 million for 2018) but imports exceed 50 percent of total U.S. imports.

• Petitions for continuation of CNL waiver: Interested parties may file petitions to grant a continuation of the current CNL waiver of articles from BDCs that currently have had a CNL waiver in effect for 5 years or more and have exceeded 150 percent of the CNL threshold or 75 percent of total U.S. imports.

III. Requirements for Submissions

A. General Requirements

All submissions for the GSP Annual Review must conform to the GSP regulations set forth at 15 CFR part 2007 (https://www.ecfr.gov/cgi-bin/text-idx?SID=2688e93e7a801d4294d011d7afcc7347&mc=true&node=pt15.3.2007&rgn=div5), except as modified below.

All submissions in response to this notice must be in English and must be submitted electronically via http://www.regulations.gov, using docket number USTR-2019-0001. USTR will not accept hand-delivered submissions. USTR will not accept submissions that do not provide the information required by sections 2007.0 and 2007.1 of the GSP regulations, unless the petitioner explains in detail that they made a good faith effort to obtain the information required.

To make a submission via http://www.regulations.gov, enter the docket number for this review—USTR-2019-0001—in the `search for' field on the home page and click `search.' The site will provide a search-results page listing all documents associated with this docket. Find a reference to this notice by selecting `notice' under `document type' in the `filter results by' section on the left side of the screen and click on the link entitled `comment now.' For additional information on using the http://www.regulations.gov website, please consult the resources provided on the website by clicking on `how to use this site' on the left side of the home page.

The regulations.gov website allows users to provide comments by filling in a `type comment' field or by attaching a document using the `upload file(s)' field. USTR prefers that submissions be provided in an attached document. Submissions must include, at the beginning of the submission, or on the first page (if an attachment), the following text (in bold and underlined): (1) 2019 GSP Annual Review and (2) the eight or ten digit HTSUS subheading number in which the product is classified (for product petitions) or the name of the country (for country practice petitions).

Furthermore, petitions that request action with respect to specific products also should list at the beginning of the submission, or on the first page (if an attachment) the following information: (1) The requested action and (2) if applicable, the beneficiary developing country. Submissions should not exceed 30 single-spaced, standard letter-size pages in 12-point type, including attachments. Any data attachments to the submission should be included in the same file as the submission itself, and not as separate files.

You will receive a submission tracking number that you should keep for you records upon completion of the submission procedure at http://www.regulations.gov. The tracking number is your confirmation that the submission was received into http://www.regulations.gov. USTR is not responsible for any delays in a submission due to technical difficulties, nor is it able to provide any technical assistance for the regulations.gov website. USTR may not consider documents that you do not submit in accordance with these instructions. If you cannot provide submissions as requested, please contact Lauren Gamache at (202)396-2974 to arrange for an alternative method of transmission.

B. Business Confidential Petitions

A submitter requesting that USTR treat information contained in a submission as business confidential information must certify that the information is business confidential and would not customarily be released to the public by the submitter. You must clearly designate confidential business information by marking the submission `BUSINESS CONFIDENTIAL' at the top and bottom of the cover page and each succeeding page, and indicating, via brackets, the specific information that is confidential. Additionally, you must include `business confidential' in the `type comment.' field. For any submission containing business confidential information, you also must submit a separate non-confidential version (i.e., not as part of the same submission with the confidential version), indicating where confidential information has been redacted. USTR will place the non-confidential version in the docket and it will be open to public inspection.

Business confidential submissions that are submitted without the required markings, or are not accompanied by a properly marked non-confidential version, as set forth above, might not be accepted or may be considered public documents.

C. Public Viewing of Review Submissions

Submissions in response to this notice, except for information granted business confidential status under 15 CFR part 2003.6, will be available for public viewing pursuant to 15 CFR part 2007.6 at http://www.regulations.gov upon completion of processing. You can view submissions by entering the docket number USTR-2019-0001 in the search field at http://www.regulations.gov.

Erland Herfindahl,
Deputy Assistant U.S. Trade Representative for the Generalized System of Preferences Office of the U.S. Trade Representative.

[FR Doc. 2019-05614 Filed 3-22-19; 8:45 am]

BILLING CODE 3290-F9-P